Proclamation 10815 of September 19, 2024

National Service Dog Day, 2024

By the President of the United States of America

A Proclamation

On National Service Dog Day, we recognize the proven benefits that service dogs bring to so many people across our Nation.

Service dogs have long been at people's sides—acting as an important source of comfort and an essential resource to help with everyday life. It was not until 1990, when we passed the Americans with Disabilities Act, that our Nation fully recognized and protected service dogs by law. I am proud to have co-sponsored this landmark legislation years ago, and I am proud of its continued legacy today. Service dogs continue to provide valuable aid and support, improving people's lives—and even sometimes saving them. For people with disabilities and those struggling with their health, service dogs can help them perform everyday tasks, alert them of oncoming medical episodes, or remind them to take medication. For those dealing with post-traumatic stress disorder or anxiety, service dogs can be a source of comfort and care—waking their owner up during nightmares or helping them navigate large crowds.

My Administration has worked to ensure that everyone has access to the health care and support services they need. I signed the Puppies Assisting Wounded Servicemembers for Veterans Therapy Act, which established a pilot program that makes veterans struggling with post-traumatic stress disorder eligible to train service dogs. Additionally, the Department of Veterans Affairs has also provided the Service Dog Veterinary Health Insurance Benefit to over 1,400 veterans, ensuring that veterinary costs for their service dogs are covered. And the Department of Transportation established the first-ever Airline Passengers with Disabilities Bill of Rights, which affirmed the right to travel with a service animal, and proposed a rule to ensure all passengers with disabilities—including those with service animals—can travel safely and with dignity.

Today, may we celebrate service dogs, who offer assistance, comfort, and unconditional love to so many.

NOW, THEREFORE, I, JOSEPH R. BIDEN JR., President of the United States of America, by virtue of the authority vested in me by the Constitution and the laws of the United States, do hereby proclaim September 20, 2024, as National Service Dog Day. I call upon the people of the United States to honor the role of service dogs in the lives of people with disabilities and America's veterans with appropriate ceremonies and activities.

IN WITNESS WHEREOF, I have hereunto set my hand this nineteenth day of September, in the year of our Lord two thousand twenty-four, and of the Independence of the United States of America the two hundred and forty-ninth.

[FR Doc. 2024-21977

Filed 9-23-24; 8:45 am]

Billing code 3395-F4-P